DEPARTMENT OF THE INTERIOR

National Park Service

Intent To Prepare an Environmental Assessment and Scoping for an Evaluation of Alternatives To Revitalize the Jefferson National Expansion Memorial, Missouri

AGENCY: National Park Service, Interior.

ACTION: Notice.

SUMMARY: Pursuant to Section 102(2)(C) of the National Environmental Policy Act (NEPA) of 1969 (42 U.S.C. 4332(2)(C)), the National Park Service (NPS) will prepare an Environmental Assessment (EA) for an evaluation of alternatives to revitalize the Jefferson National Expansion Memorial (Memorial), St. Louis, Missouri. The proposed action involves physical changes to the Memorial grounds and facilities as a method for improving visitor access and experience, while better integrating the Memorial into the downtown St. Louis area. The NPS will use this EA process to engage the public through scoping, develop a range of reasonable alternatives for implementing the proposed action, and analyze the impacts of the alternatives.

This notice initiates the scoping process for the EA and invites the public, government agencies, and other interested persons and organizations to provide comments. If at any point during the preparation of the EA the NPS determines that it is necessary to prepare an environmental impact statement (EIS) for this proposal, comments submitted during this scoping process will be considered in the development of the EIS.

DATES: When the EA is completed, NPS will hold meetings to provide an opportunity for the public to comment. Details regarding the exact times and locations of these meetings will be announced on the NPS's Planning, Environment and Public Comment (PEPC) Web site, at http://parkplanning.nps.gov/jeff, and through local and regional media at least 15 days in advance of the meetings.

ADDRESSES: Comments may be submitted through the PEPC Web site at http://parkplanning.nps.gov/jeff. You may also mail or hand-deliver comments to the Superintendent, Jefferson National Expansion Memorial, 11 North 4th Street, St. Louis, Missouri 63102.

FOR FURTHER INFORMATION CONTACT: Superintendent, Jefferson National Expansion Memorial, at the address above.

SUPPLEMENTARY INFORMATION: The NPS completed a General Management Plan/Environmental Impact Statement (GMP/EIS) for the Memorial in October 2009 and the record of Decision (ROD) was signed in November 2009. The selected alternative in the ROD allowed for a design competition to guide the future development of the Memorial. The intent of the competition was to identify ways to seamlessly integrate the park and surrounding areas into the St. Louis region, while honoring the Arch and the grounds immediately surrounding. The design competition began in December 2009 and the winning team was selected in September 2010. The winning concept was subsequently refined and presented to the public in January 2011.

The 2009 GMP/EIS provided a broad analysis of potential impacts of the expansion of programs and facilities at the Memorial; this EA will provide a more site-specific analysis. Council on Environmental Quality regulations (40 CFR 1502.20) encourage the use of a tiering process in these types of situations. Department of the Interior regulations implementing NEPA (43 CFR 46.140) state that an “ * * * environmental assessment prepared in support of an individual proposed action can be tiered to a programmatic or other broader-scope environmental impact statement. Tiering to the programmatic or broader-scope environmental impact statement would allow the preparation of an environmental assessment and a finding of no significant impact for the individual proposed action, so long as any previously unanalyzed effects are not significant.” In addition, NPS consultation, in accordance with Section 106 of the National Historic Preservation Act, began in January 2011, and the NEPA process will be integrated with the section 106 process as much as possible to coordinate public review and other consultative requirements of both laws.

A scoping newsletter will be prepared which identifies the draft statements of purpose, need, and objectives, as well as issues and preliminary alternative concepts, as identified to date. Copies of that information and other updates may be obtained online from the PEPC Web site or at the address and phone numbers listed above. If you wish to comment, you may submit your comments via the Internet through PEPC, at one of the public meetings, and by mailing or hand-delivering comments to the address noted above. Bulk comments in any format (hard copy or electronic) submitted on behalf of others will not be accepted. Before including your address, phone number, e-mail address, or other personal identifying information in your comment, you should be aware that your entire comment, including your personal identifying information, may be made publicly available at any time. While you can ask us in your comment to withhold your personal identifying information from public review, we cannot guarantee that we will be able to do so. Comments will not be accepted by fax, e-mail, or in any way other than those specified above.

Dated: May 6, 2011.
Michael T. Reynolds,
Regional Director, Midwest Region.

[FR Doc. 2011-18825 Filed 7-25-11; 8:45 am]

BILLING CODE 4312-AW-P